DEPARTMENT OF JUSTICE

Notice of Lodging of Second Amendment to Consent Decree Under the Clean Air Act

Under 28 CFR 50.7, notice is hereby given that on June 24, 2008, a Second Amendment to the Consent Decree entered in the case of United States, et al. v. ConocoPhillips Company, Civil Action No. H-05-0258, was lodged with the United States District Court for the Southern District of Texas.

Under the original Consent Decree, the ConocoPhillips Company (“COPC”) agreed to implement innovative pollution control technologies to reduce emissions of nitrogen oxides, sulfur dioxide, and particulate matter from refinery process units at nine refineries owned and operated by COPC. COPC also agreed to adopt facility-wide enhanced benzene waste monitoring and fugitive emission control programs. Subsequently, under a First Amendment that was entered in May of 2007, COPC agreed, inter alia, to install additional pollution control technology in consideration for deadline extensions.

COPC still is obligated to comply with the Consent Decree as amended. However, under the Second Amendment, COPC will: (i) Add new controls to its sewer system and a wastewater lift station at its refinery in Ferndale, Washington, to ensure compliance with the Benzene Waste Operations NESHAP (“BWON”); (ii) install controls on the guidepoles of five tanks at its refinery in Linden, New Jersey, in exchange for a deadline extension there; and (iii) install a wet gas scrubber instead of an electrostatic precipitator as the control device for a major process unit at its refinery in Sweeny, Texas. Additional minor modifications also are included in the Second Amendment. COPC will pay a civil penalty of $60,000 and perform two Supplemental Environmental Projects valued at $100,000 each near its Ferndale refinery in exchange for a liability release for alleged BWON violations there. COPC also will pay a stipulated penalty of $80,500 for a flaring incident at its refinery in Trainer, Pennsylvania.

In the Second Amendment, the United States is joined by the State of Illinois, the State of Louisiana, the State of New Jersey, the Commonwealth of Pennsylvania, and the Northwest Clean Air Agency in the State of Washington.

The Department of Justice will receive for a period of thirty (30) days from the date of this publication comments relating to the Second Amendment. Comments should be addressed to the Assistant Attorney General, Environment and Natural Resources Division, and either e-mailed to pubcomment-ees.enrd@usdoj.gov or mailed to P.O. Box 7611, U.S. Department of Justice, Washington, DC 20044-7611, and should refer to United States, et al. v. ConocoPhillips Company, D.J. Ref. No. 90-5-2-1-06722/1.

The Second Amendment may be examined at the Office of the United States Attorney, 919 Milam St., Suite 1500, Houston, Texas 77208, and at U.S. EPA Region 6, 1445 Ross Avenue, Dallas, Texas 75202-2733. During the public comment period, the Second Amendment may also be examined on the following Department of Justice Web site: http://www.usdoj.gov/enrd/Consent_Decrees.html . A copy of the Second Amendment may also be obtained by mail from the Consent Decree Library, P.O. Box 7611, U.S. Department of Justice, Washington, DC 20044-7611, or by faxing or e-mailing a request to Tonia Fleetwood (tonia.fleetwood@usdoj.gov), fax number (202) 514-0097, phone confirmation number (202) 514-1547. In requesting a copy from the Consent Decree Library, please enclose a check in the amount of $11.25 (25 cents per page reproduction cost) payable to the U.S. Treasury, or, if by e-mail or fax, forward a check in that amount to the Consent Decree Library at the stated address.

Robert D. Brook,
Assistant Section Chief, Environmental Enforcement Section, Environment and Natural Resources Division.

[FR Doc. E8-14675 Filed 6-27-08; 8:45 am]

BILLING CODE 4410-15-P